DEPARTMENT OF TRANSPORTATION

Federal Aviation Administration

Notice of Opportunity for Public Comment on Surplus Property Release at Dare County Regional Airport, Manteo, NC

AGENCY: Federal Aviation Administration (FAA), DOT.

ACTION: Notice.

SUMMARY: Under the provisions of Title 49, U.S.C. 47153(d), notice is being given that the FAA is considering a request from the County of Dare to waive the requirement that a 34.4 acre parcel of surplus property, located at the Dare County Regional Airport, be used for aeronautical purposes.

DATES: Comments must be received on or before June 19, 2006.

ADDRESSES: Comments on this notice may be mailed or delivered in triplicate to the FAA at the following address: Atlanta Airports District Office, 1701 Columbia Ave., Campus Building, Suite 2-260, College Park, GA 30337.

In addition, one copy of any comments submitted to the FAA must be mailed or delivered to Mr. Bobby Outten, Dare County Attorney at the following address: P.O. Box 1000, Manteo, NC 27954.

FOR FURTHER INFORMATION CONTACT: Rusty Nealis, Program Manager, Atlanta Airports District Office, 1701 Columbus Ave., Campus Bldg., Suite 2-260, College Park, GA 30337, (404) 305-7142. The application may be reviewed in person at this same location.

SUPPLEMENTARY INFORMATION: The FAA is reviewing a request by the County of Dare to release 34.4 acres of surplus property at the Dare County Regional Airport. The surplus property will be used to construct a facility for the University of North Carolina Coastal Studies Institute (CSI).

Any person may inspect the request in person at the FAA office listed above under the FOR FURTHER INFORMATION CONTACT. In addition, any person may, upon request, inspect the request, notice and other documents germane to the request in person at the Dare County Administration Office, 211 Budleigh Street, Manteo, NC.

Issued in Atlanta, Georgia on May 10, 2006.
Scott L. Seritt,
Manager, Atlanta Airports District Office, Southern Region.

[FR Doc. 06-4623 Filed 5-17-06; 8:45 am]

BILLING CODE 4910-13-M